DEPARTMENT OF LABOR

Employment and Training Administration

[TA-W-72,471]

The Walker Auto Group, Inc., Miamisburg, OH; Notice of Negative Determination Regarding Application for Reconsideration

By application dated March 4, 2010, a representative of the State of Ohio requested administrative reconsideration of the Department's negative determination regarding eligibility to apply for Trade Adjustment Assistance (TAA), applicable to workers and former workers of the subject firm. The negative determination was signed on January 8, 2010. The Department's Notice of determination was published in the Federal Register on February 16, 2010 (75 FR 7039).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the TAA petition filed on behalf of workers at The Walker Auto Group, Inc., Miamisburg, Ohio, was based on the finding that the subject firm did not shift abroad the supply of automotive sales or services or increase imports of automotive sales services during the relevant period, and that the workers did not produce an article or supply a service that was used by a firm with TAA-certified workers in the production of an article or supply of a service that was the basis for TAA-certification.

In the request for reconsideration, the petitioner stated that the workers of the subject firm should be eligible for TAA because the Walker Auto Group, Inc., Miamisburg, Ohio, supplies a service (sales and service of Pontiac automobiles)” and “A required minimum of the workforce has been laid off in the 12 months preceding the date of the petition or is threatened with layoffs * * *” and increased imports of articles or services contributed importantly to an actual decline in sales or production of like or directly competitive articles or services at the workers' firm and to the workers' layoff or threat of a layoff.” The petitioner further states that the “well-documented * * * import of foreign-made automobiles has increased continually for years, contributing importantly to an actual decline in sales and production of Pontiac cars. * * * The service The Walker Auto Group, Inc. provided was based on the continued production of Pontiac automobiles, therefore the increases of imported cars contributed importantly to the workers' layoff and, for those who remain, the threat of layoff at the end of 2010.”

The initial investigation revealed that the subject firm did not shift abroad the supply of automotive sales or services or increase imports of automotive sales services during the relevant period.

No survey of the subject firm's major declining customers regarding their purchases of imported automotive sales or services was done because the subject firm sells retail to individual customers, and there is no major purchaser.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 23rd day of April, 2010.
Del Min Amy Chen,
Certifying Officer, Division of Trade Adjustment Assistance.

[FR Doc. 2010-10519 Filed 5-4-10; 8:45 am]

BILLING CODE 4510-FN-P